DEPARTMENT OF THE TREASURY

Office of Foreign Assets Control

Sanctions Actions Pursuant to the Sergei Magnitsky Rule of Law Accountability Act of 2012

AGENCY: Office of Foreign Assets Control, Treasury.

ACTION: Notice.

SUMMARY: The Treasury Department's Office of Foreign Assets Control (“OFAC”) is publishing the names of five individuals whose property and interests in property are blocked pursuant to the Sergei Magnitsky Rule of Law Accountability Act of 2012 (the “Magnitsky Act”).

DATES: OFAC's actions described in this notice were effective on January 9, 2017.

FOR FURTHER INFORMATION CONTACT: The Department of the Treasury's Office of Foreign Assets Control: Assistant Director for Licensing, tel.: 202-622-2480, Assistant Director for Policy, tel.: 202-622-2746, Assistant Director for Regulatory Affairs, tel.: 202-622-4855, Assistant Director for Sanctions Compliance & Evaluation, tel.: 202-622-2490; or the Department of the Treasury's Chief Counsel (Foreign Assets Control), Office of the General Counsel, tel.: 202-622-2410.

SUPPLEMENTARY INFORMATION:

Electronic and Facsimile Availability

This document and additional information concerning OFAC are available from OFAC's Web site (www.treasury.gov/ofac).

Background

On January 9, 2017, OFAC blocked the property and interests in property of the following five individuals pursuant to the Magnitsky Act (Pub. L. 112-208, December 14, 2012):

1. PLAKSIN, Gennady Nikolaevich, Russia; DOB 31 Aug 1961; Gender Male (individual) [MAGNIT].

2. GORDIEVSKY, Stanislav Evgenievich, Russia; DOB 09 Sep 1977; Gender Male (individual) [MAGNIT].

3. LUGOVOI, Andrei Konstantinovich, Russia; DOB 19 Sep 1966; Gender Male (individual) [MAGNIT].

4. KOVTUN, Dmitri, Russia; DOB 1965; Gender Male (individual) [MAGNIT].

5. BASTRYKIN, Alexander Ivanovich, Russia; DOB 27 Aug 1953; Gender Male (individual) [MAGNIT].

Gennady Plaksin and Stanislav Gordievsky are being designated pursuant to Section 404(a) of the Magnitsky Act because they were involved in the criminal conspiracy uncovered by Sergei Magnitsky. Andrei Lugovoi and Dmitri Kovtun are being designated pursuant to Section 404(a) of the Magnitsky Act because they are responsible for the extrajudicial killing of Alexander Litvinenko for his activities seeking to expose illegal activity carried out by officials of the Government of the Russian Federation. Alexander Bastrykin is being designated pursuant to Section 404(a) of the Magnitsky Act for participating in efforts to conceal the legal liability for the detention, abuse, or death of Sergei Magnitsky.

Dated: January 9, 2017.
John E. Smith,
Acting Director, Office of Foreign Assets Control.

[FR Doc. 2017-00603 Filed 1-12-17; 8:45 am]

BILLING CODE 4810-AL-P